DEPARTMENT OF THE INTERIOR

National Park Service

National Mall and Memorial Parks; Notice of Intent To Prepare a National Mall Plan

AGENCY: National Park Service, Interior.

ACTION: Notice of Intent to prepare the National Mall Plan, Washington, DC.

SUMMARY: In accordance with section 102(2)(C) of the National Environmental Policy Act of 1969, the National Park Service (NPS) will be preparing a National Mall Plan to provide a long-term vision plan for the use and management of the National Mall, which has been defined by Congress as a “substantially completed work of civic art,” and Pennsylvania Avenue National Historic Park.

DATES: Information related to ongoing public involvement opportunities will be provided at the following park Web site: http://www.nps.gov/nationalmallplan.

SUPPLEMENTARY INFORMATION: The planning effort will result in a National Mall Plan that differs from a General Management Plan in that it covers a longer-term time frame and addresses a finer level of detail. While National Mall & Memorial Parks includes many national park units throughout the Nation's Capital, this plan will address only the National Mall, which is comprised of West Potomac Park, the Washington Monument and the Mall, and the related Pennsylvania Avenue National Historic Park. A map of the study area is available at http://www.nps.gov/nationalmallplan. In cooperation with the agencies with jurisdiction over properties adjoining the National Mall, attention will also be given to impacts outside its boundaries that affect the integrity of the park. Public involvement and civic engagement will be key components in the preparation of the National Mall Plan. Public scoping will help to identify alternatives and major issues to be considered.

The plan will identify types and locations, and character of needed visitor facilities and services, which could include food service, seating, lighting, restrooms and crowd controls, etc. The plan could also identify desired site improvements, such as floral displays, fountains, and other embellishments that are not commemorative in nature. Additional planning issues may be defined during scoping.

FOR FURTHER INFORMATION CONTACT: Project Executive Susan Spain may be contacted at National Mall & Memorial Parks, 900 Ohio Drive SW., Washington DC 20024-2000, by telephone at (202) 245-4692, or by e-mail at susan_spain@nps.gov.

Dated: December 22, 2006.
Lisa A. Mendelson-Ielmini,
Acting Regional Director, National Capital Region.

[FR Doc. E7-396 Filed 1-12-07; 8:45 am]

BILLING CODE 4312-39-P